DEPARTMENT OF HOMELAND SECURITY

U.S. Citizenship and Immigration Services

[CIS No. 2616-18; DHS Docket No. USCIS-2008-0034]

RIN 1615-ZB71

Termination of the Designation of El Salvador for Temporary Protected Status

Correction

In notice document 2018-00885, appearing on pages 2654 through 2660 in the issue of Thursday, January 18, 2018, make the following correction:

On page 2655, in the first column, in the SUPPLEMENTARY INFORMATION section, twenty-one lines from the bottom, “January 19, 2018” should read “January 18, 2018”.

[FR Doc. C1-2018-00885 Filed 1-19-18; 8:45 am]

BILLING CODE 1301-00-D